DEPARTMENT OF THE INTERIOR

National Park Service

[NPS-WASO-NAGPRA-NPS0037559; PPWOCRADN0-PCU00RP14.R50000]

Notice of Inventory Completion: University of Oregon Museum of Natural and Cultural History, Eugene, OR

AGENCY: National Park Service, Interior.

ACTION: Notice.

SUMMARY: In accordance with the Native American Graves Protection and Repatriation Act (NAGPRA), the University of Oregon Museum of Natural and Cultural History has completed an inventory of human remains and associated funerary objects and has determined that there is a cultural affiliation between the human remains and associated funerary objects and Indian Tribes or Native Hawaiian organizations in this notice. The human remains and associated funerary objects were removed from Bristol Bay Borough, AK.

DATES: Repatriation of the human remains and associated funerary objects in this notice may occur on or after April 8, 2024.

ADDRESSES: Dr. Pamela Endzweig, Director of Anthropological Collections, University of Oregon Museum of Natural and Cultural History, 1224 University of Oregon, Eugene, OR 97403-1224, telephone (541) 346-5120, email endzweig@uoregon.edu.

SUPPLEMENTARY INFORMATION: This notice is published as part of the National Park Service's administrative responsibilities under NAGPRA. The determinations in this notice are the sole responsibility of the University of Oregon Museum of Natural and Cultural History. The National Park Service is not responsible for the determinations in this notice. Additional information on the determinations in this notice, including the results of consultation, can be found in the inventory or related records held by the University of Oregon Museum of Natural and Cultural History.

Description

In 1983, human remains representing, at minimum, one individual were removed from Bristol Bay Borough, Naknek River, AK. The human remains were transferred to the Museum of Natural and Cultural History by a former University of Oregon archeologist, who collected them on July 29, 1983. The fragmentary human remains are from a female adult, 30-50 years of age. No associated funerary objects are present.

In 1973 or 1974, human remains representing, at minimum, one individual were removed from Bristol Bay Borough, AK. The human remains (burial Nak2B1; catalog number 11-444)—a male between 30-45 years of age—were collected from the Paugvik Site (49Nak2) during legally authorized archeological excavations by a University of Oregon field party. The 35 associated funerary objects are two shaped bones, two slate flakes, one miniature sled runner, one bone awl, one pick-pryer, one slate scraper, one lot of wood from tomb, one copper box, one rib tool, one lot of grass matting, one skull impression, one potsherd, 11 pieces of hematite, four bark cloth fragments, one lot of hair, one lot of hide fragments, and four lots of mixed hair, matting, hide, cloth, and leather.

In 1973 or 1974, human remains representing, at minimum, one individual were removed from Bristol Bay Borough, AK. The human remains (burial Nak2B2; catalog number 11-445)—a female between 20-30 years of age—were collected from the Paugvik Site (49Nak2) during legally authorized archeological excavations by a University of Oregon field party. The 26 associated funerary objects are one lot of potsherds, one smoothed rock, two socket pieces, one lot glass beads, one slate blade fragment, two sewn hides, 12 hide fragments, one mukluk, four pieces of leather, and one abrader.

In 1973 or 1974, human remains representing, at minimum, one individual were removed from Bristol Bay Borough, AK. The human remains (burial Nak2B3; catalog number 11-446)—a female between 15-20 years of age—were collected from the Paugvik Site (49Nak2) during legally authorized archeological excavations by a University of Oregon field party. The one associated funerary object is one lot of glass beads.

In 1973 or 1974, human remains representing, at minimum, two individuals were removed from Bristol Bay Borough, AK. The human remains (burial Nak2B4, catalog number 11-447)—one adult male between 30-40 years of age and one individual of indeterminate age and sex—were collected from the Paugvik Site (49Nak2) during legally authorized archeological excavations by a University of Oregon field party. The one associated funerary object is a wooden tray.

In 1973 or 1974, human remains representing, at minimum, one individual were removed from Bristol Bay Borough, AK. The human remains (burial Nak2B5, catalog number 11-448)—an adult male between 30-40 years of age—were collected from the Paugvik Site (49Nak2) during legally authorized archeological excavations by a University of Oregon field party. It is uncertain whether the wooden tray listed for the previous burial is associated with Nak2B4 or Nak2B5.

According to published materials, all burials from the Paugvik Site are assigned to the Pavik Phase, ca. 1800-1900 CE, on the basis of association with European trade goods or stratigraphic context.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological information; archeological information; geographical information.

Determinations

Pursuant to NAGPRA and its implementing regulations, and after consultation with the appropriate Indian Tribes and Native Hawaiian organizations, the University of Oregon Museum of Natural and Cultural History has determined that:

• The human remains described in this notice represent the physical remains of seven individuals of Native American ancestry.

• The 63 objects described in this notice are reasonably believed to have been placed with or near individual human remains at the time of death or later as part of the death rite or ceremony.

• There is a relationship of shared group identity that can be reasonably traced between the human remains and associated funerary objects described in this notice and the Naknek Native Village.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after April 8, 2024. If competing requests for repatriation are received, the University of Oregon Museum of Natural and Cultural History must determine the most appropriate requestor prior to repatriation. Requests for joint repatriation of the human remains and associated funerary objects are considered a single request and not competing requests. The University of Oregon Museum of Natural and Cultural History is responsible for sending a copy of this notice to the Indian Tribes and Native Hawaiian organizations identified in this notice.

This notice was submitted before the effective date of the revised regulations (88 FR 86452, December 13, 2023, effective January 12, 2024). As the notice conforms to the mandatory format of the Federal Register and includes the required information, the National Park Service is publishing this notice as submitted.

Authority: Native American Graves Protection and Repatriation Act, 25 U.S.C. 3003, and the implementing regulations, 43 CFR 10.10.

Dated: February 29, 2024.
Melanie O'Brien,
Manager, National NAGPRA Program.

[FR Doc. 2024-04985 Filed 3-7-24; 8:45 am]

BILLING CODE 4312-52-P